DEPARTMENT OF EDUCATION

Office of Special Education and Rehabilitative Services; Special Education—Technical Assistance and Dissemination To Improve Services and Results for Children With Disabilities Program

AGENCY: Department of Education.

ACTION: Notice inviting applications for new awards for fiscal year (FY) 2001.

SUMMARY: This notice provides closing dates, a priority, and other information regarding the transmittal of applications for a FY 2001 competition under one program authorized by the Individuals with Disabilities Education Act (IDEA), as amended: Special Education—Technical Assistance and Dissemination to Improve Services and Results for Children with Disabilities.

National Education Goals

The eight National Education Goals focus the Nation's education reform efforts and provide a framework for improving teaching and learning.

This priority addresses the National Education Goals that promote new partnerships to strengthen schools and expand the Department's capacities for helping communities to exchange ideas and obtain information needed to achieve the goals.

This priority would address the National Education Goals by helping to improve results for children with disabilities.

Waiver of Rulemaking

It is generally our practice to offer interested parties the opportunity to comment on proposed priorities. However, section 661(e)(2) of IDEA makes the Administrative Procedure Act (5 U.S.C. 553) inapplicable to the priority in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under this notice must budget for a two-day Project Directors' meeting in Washington, DC during the project period.

(d) Part III of each application submitted under this notice, the application narrative, is where an applicant addresses the selection criteria that are used by reviewers in evaluating the application. You must limit Part III to the equivalent of no more than the number of pages listed in the table at the end of this notice, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I, the cover sheet; Part II, the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Special Education—Technical Assistance and Dissemination To Improve Services and Results for Children With Disabilities (CFDA 84.326)

Purpose of Program: The purpose of this program is to provide technical assistance and information that support States and local entities in building capacity, to improve early intervention, educational, and transitional services and results for children with disabilities and their families, and address systemic-change goals and priorities.

Applicable Regulations: (a) The Education Department General Administrative Regulations (EDGAR) in 34 CFR parts 74, 75, 77, 79, 80, 81, 82, 85, 86, 97, 98, and 99; (b) The selection criteria for the priority under this program are drawn from the EDGAR general selection criteria menu. The specific selection criteria for this priority are included in the funding application packet for this competition.

Note: The regulations in 34 CFR part 86 apply to institutions of higher education only.

Eligible Applicants: State educational agencies (SEAs) of the 50 States, the District of Columbia, the Commonwealth of Puerto Rico, and outlying areas (United States Virgin Islands, Guam, American Samoa, and the Commonwealth of the Northern Mariana Islands). Freely Associated States (Federated States of Micronesia, Republic of Palau, Republic of the Marshall Islands) are also eligible to apply for funding, but only to address system needs of Part B of the IDEA because the Freely Associated States do not receive funding under Part C of IDEA. An entity eligible to apply for funding under Section 661(b)(1)(A) of IDEA may apply on behalf of an SEA or a Freely Associated State, but the entity must include a signed letter of endorsement from the Director of the SEA or the appropriate official from the Freely Associated State. The Assistant Secretary will not fund applications submitted by two agencies or entities on behalf of a single State, but encourages joint applications from SEAs and State Lead Agencies for Part C early intervention services (State Lead Agencies) in States where the SEA is not the State Lead Agency. An SEA may endorse the State Lead Agency as the State's applicant under the conditions set forth in the Maximum Award section.

Priority

Under section 685 of IDEA and 34 CFR 75.105(c)(3) we consider only applications that meet the following absolute priority:

Absolute Priority—IDEA General Supervision Enhancement Grant (84.326X)

Background

Over the past five years, the Office of Special Education Programs (OSEP) has worked with SEAs, local educational agencies (LEAs), parents, advocates, and other key stakeholders to shape its monitoring system in a way that will drive and support improved results for infants, toddlers, and children with disabilities, and their families. In order to ensure compliance with IDEA and support positive results, OSEP has implemented a Continuous Improvement Monitoring Process (CIMP) that:

(a) Is continuous;

(b) Is data-driven;

(c) Is public;

(d) Includes technical assistance;

(e) Includes partnerships with stakeholders;

(f) Includes State accountability; and

(g) Includes self-assessment.

The CIMP includes the following phases:

(a) Self-assessment;

(b) Public input;

(c) Data collection;

(d) Reporting to the public;

(e) Improvement planning;

(f) Implementation of improvement strategies; and

(g) Verification and consequences.

An in-depth explanation of the CIMP can be found at: http://dssc.org/frc/monitor “Click” on manual100.doc to view in MS WORD or on manual100.pdf to view as a pdf file.

Since the implementation of the CIMP, SEAs and State Lead Agencies have embraced the continuous improvement concept. Twenty-one States have been monitored using the CIMP, four have submitted Improvement Plans, fifteen States have recently completed self-assessments, and the remainder are about to initiate the process. From a State systems change perspective, many States have begun the difficult process of: (1) Developing CIMP systems at the State level; (2) supporting the development of CIMP systems at the LEA level; (3) developing new data systems to support State and local CIMP systems; and (4) developing and implementing improvement plans that include the development or enhancement of State systems to identify and disseminate research-based educational and early intervention promising practices. Providing the States with some initial funds to support their participation in the CIMP, as well as to support unique State solutions and strategies developed in response to State-specific challenges identified through participation in the CIMP, will reinforce OSEP's and the States' commitment to CIMP.

Absolute Priority

This priority has been established to support State activities in one or more of the following focus areas. Applicants are encouraged to use these funds in combination with other State or Federal funds in carrying out project activities, but grant funds awarded under this priority must be used to support specific activities whose impact will be evaluated separately from activities supported with other funding sources. SEA applicants are encouraged to submit joint applications with the State Lead Agency.

Focus 1: Developing or Enhancing a Process to Conduct a Self-Assessment

SEAs and State Lead Agencies often require technical assistance to participate in the self-assessment phase of the CIMP. This focus supports the development or enhancement of a process for statewide self-assessment of the provision of early intervention or special education and related services, or both. The process should address such areas as:

(a) Identifying and implementing fiscally efficient processes to operate the CIMP Steering Committee;

(b) Identifying and obtaining data needed to evaluate the provision of early intervention and/or special education and related services, or both;

(c) Identifying and using methods to determine data validity and reliability;

(d) Identifying and using valid and reliable techniques to collect data from parents, LEAs, advocates, service providers, and other stakeholders in early intervention, special education, and related services;

(e) Identifying and using valid and reliable data analysis techniques; and

(f) Identifying and using a decision-making process, based on data analysis, that results in valid conclusions regarding areas: (1) In compliance; (2) in need of improvement; (3) out of compliance; and (4) of strength.

The self-assessment process must be aligned with the self-assessment requirements of the CIMP.

Focus 2: Developing or Enhancing a Data System to Support the Needs of a CIMP at the State or Local Level

An analysis of State self-assessments has shown that many of the States, and their LEAs and local Part C agencies, lack the infrastructure to collect sufficient data to determine the impact of special education and early intervention services. The collection and use of valid and reliable data are cornerstones of the CIMP.

This focus supports the development or enhancement of a data system that will provide results-oriented information about one or more of the following:

(a) Appropriate early intervention services and/or special education and related services;

(b) The effectiveness of the monitoring system of the SEA or State Lead Agency, or both;

(c) Interagency coordination and fiscal responsibility;

(d) The effectiveness of the State's dispute resolution system;

(e) The effectiveness of the State's child find systems;

(f) Personnel shortages, including those related to retention;

(g) The system for exercising its general supervisory authority of the SEA or State Lead Agency, or both;

(h) Efforts to address family needs and enhance families' capacities to meet the developmental needs of their children;

(i) Early intervention services in the natural environment and/or special education and related services in the least restrictive environment;

(j) The transition from Part C to Part B services;

(k) The involvement of parents; and

(l) Transition from school to work or postsecondary education.

The data system must be aligned with the data collection needs of the CIMP.

Focus 3: Developing or Enhancing a Process to Conduct Improvement Planning Activities Based on the Self-Assessment, Data Collection and Public Reporting Phases of the CIMP

Based upon an analysis of Improvement Plans submitted by States in response to OSEP monitoring reports, OSEP recognizes that many States lack a cohesive data-based approach to developing their Improvement Plans. Many States engaging in the improvement planning process have had trouble identifying and addressing the systemic barriers or factors that contributed to the existence of the practice that the State or OSEP determined needed improvement. Improvement Plans should include solutions that: (1) Are not based on strategies previously employed without garnering the proposed results; (2) are based on a clear understanding of the systemic variables that are creating the problem; (3) address primary, rather than tangential issues and result in significant, rather than minimal changes; (4) propose process changes that result in practice changes; and perhaps most importantly, (5) address the positive impact they intend to have on children with disabilities. The process of developing Improvement Plans is a critical component of the CIMP, and if done properly will result in improved special education, related services, and early intervention services. This focus supports the development or enhancement of a process for improvement planning that, for example, will result in solutions that:

(a) Identify systemic barriers to improved early intervention services, and/or special education and related services;

(b) Address the systemic barriers to improved early intervention services, and/or special education and related services;

(c) Include an evaluation component that will demonstrate the positive impact of early intervention services, and/or special education and related services;

(d) Include an evaluation component that will demonstrate the positive changes in staff practice relative to the provision of special education, related, or early intervention services;

(e) Are aligned or coordinated with the State's general education reform initiatives; and

(f) Are consistent with and responsive to OSEP monitoring report findings.

The process must be aligned with the improvement planning phase of the CIMP.

Focus 4: Developing or Enhancing State Systems to Identify, Disseminate, and Implement Research-Based Promising Educational or Early Intervention Practices

Based upon an analysis of the Self-Assessment and additional data collected through the Data Collection phase of the CIMP, an Improvement Plan that addresses both compliance with IDEA and improvement of results is developed. OSEP has found that, in order to be fully effective, many Improvement Plans require a State technical assistance and dissemination infrastructure to identify, disseminate, and implement research-based promising educational or early intervention practices. In many States, this structure is either nonexistent or lacks sufficient resources to be effective.

This focus supports the development or enhancement of a statewide technical assistance system that will address such areas as:

(a) Providing information about research-based intervention and instructional practices;

(b) Supporting the use of research-based instructional and service delivery approaches in local schools and agencies;

(c) Serving as a conduit for the dissemination of research-based information between SEAs, State Lead Agencies, local educational and Part C agencies, and national technical assistance centers; and

(d) Improving the efficacy of disseminating information.

The proposed activities must be aligned with the Improvement Planning process.

Competitive Preferences

Within this absolute priority, we will award the following competitive preference points under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Maximum Award

Project award amounts are for a single budget period of twelve (12) months. Maximum FY 2001 State basic grant awards are listed in this notice. Applicants should note that they may apply for awards of differing amounts based on whether the application addresses the needs of: (1) Only the Part B program; or (2) both the Parts B and C programs.

In order to apply for the combined Parts B and C award, the application must describe in Part III: (1) How the SEA and State Lead Agency participated in developing the application; and (2) how the applicant will use the funding to address the needs of both the Parts B and C programs.

If an SEA endorses the State Lead Agency as the State's applicant, the application must describe: (1) How the State Lead Agency and SEA collaborated to develop the application; and (2) how the State Lead Agency will use the award to address the needs of both the Parts C and B programs (e.g., developing or enhancing a data system that tracks the transition of toddlers from Part C to Part B services). The amounts for the State basic grant are based on OSEP's assessment that the minimal amounts necessary to address only Part B program needs and both Parts B and C program needs are $120,000 and $200,000 respectively. Amounts above the minimum levels were calculated based on the 85 percent population and 15 percent poverty rates used in the Part B formula grant award calculations. Outlying area levels are $80,000 for addressing only Part B and $100,000 for addressing both Parts B and C. Because Freely Associated States participate only in the Part B program, a level of $80,000 has been established for addressing Part B only. States should not propose a budget in their application for the basic grant award that exceeds the amounts in this notice.

At our discretion, we may reduce the grant award levels based on available funds. We will reject and will not consider an application that proposes a budget period exceeding twelve (12) months or that, for the basic grant award, exceeds the amounts listed in this notice for each State.

SUPPLEMENTARY INFORMATION: OSEP may have additional funds available to support enhancements to the activities described in the applications approved for funding under this competition. Applicants wishing to apply for enhancement funds may add up to five (5) additional pages to Part III to describe additional activities that augment or complement those presented in the narrative section of their basic grant proposal. Enhancement activities may be simply an expansion of activities already described in the narrative or they may be new activities that will improve the quality of the previously proposed tasks; for example, additional staff training, the acquisition of expert technical assistance, or improved stakeholder involvement. A separate budget for the enhancement funds must be prepared and included in Part II of the application. The budget for the enhancement funds must not exceed thirty percent of the award amount listed for the basic grant (i.e., either 30 percent of the award for Part B only or 30 percent of the award for Parts B and C, depending on whether the application addresses only the needs of Part B or the needs of Parts B and C).

Page Limits: The maximum page limit for this priority, if only applying to address Part B is twenty (20) double-spaced pages for a basic grant and twenty-five (25) pages for a basic grant with enhancements. The maximum page limit if applying to address Part B and Part C is thirty (30) double-spaced pages for a basic grant and thirty-five (35) pages for a basic grant with enhancements.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact ED Pubs via its Web site (http://www.ed.gov/pubs/edpubs.html) or its E-mail address (edpubs@inet.ed.gov).

If you request an application from ED Pubs, be sure to identify this competition as follows: CFDA 84.326X.

FOR FURTHER INFORMATION CONTACT: Grants and Contracts Services Team, U.S. Department of Education, 400 Maryland Avenue, SW., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact office listed.

Individuals with disabilities may obtain a copy of the application package in an alternative format by contacting the Department contact office. However, the Department is not able to reproduce in an alternative format the standard forms included in the application package.

Intergovernmental Review

This notice is subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for those programs.

Individuals with Disabilities Education Act—Application Notice for Fiscal Year 2001
CFDA No. and name—84.326X IDEA General Supervision Enhancement Grant | Applications available 05/25/01 | Application deadline date 07/13/01 | Deadline for intergovernmental review 09/13/01 | Maximum award for basic grants (per year)*: IDEA Parts B&C | Maximum award for basic grants (per year)*: IDEA Part B only | Project period, 12 months | Page limit** | Estimated number of awards, 24
Alabama |  |  |  | $326,995 | 228,311 |  | (¹) |
Alaska |  |  |  | 222,501 | 139,433 |  |  |
Arizona |  |  |  | 365,640 | 260,720 |  |  |
Arkansas |  |  |  | 274,755 | 183,358 |  |  |
California |  |  |  | 1,152,434 | 919,827 |  |  |
Colorado |  |  |  | 317,398 | 221,322 |  |  |
Connecticut |  |  |  | 287,921 | 196,339 |  |  |
Delaware |  |  |  | 220,315 | 137,458 |  |  |
Florida |  |  |  | 615,644 | 476,477 |  |  |
Georgia |  |  |  | 452,348 | 338,250 |  |  |
Hawaii |  |  |  | 230,944 | 146,523 |  |  |
Idaho |  |  |  | 240,805 | 155,155 |  |  |
Illinois |  |  |  | 549,460 | 419,137 |  |  |
Indiana |  |  |  | 341,761 | 239,728 |  |  |
Iowa |  |  |  | 280,665 | 189,877 |  |  |
Kansas |  |  |  | 277,239 | 187,070 |  |  |
Kentucky |  |  |  | 311,373 | 215,831 |  |  |
Louisiana |  |  |  | 354,317 | 255,084 |  |  |
Maine |  |  |  | 230,857 | 146,922 |  |  |
Maryland |  |  |  | 337,094 | 238,616 |  |  |
Massachusetts |  |  |  | 365,732 | 264,459 |  |  |
Michigan |  |  |  | 496,541 | 378,845 |  |  |
Minnesota |  |  |  | 347,591 | 247,414 |  |  |
Mississippi |  |  |  | 288,884 | 195,955 |  |  |
Missouri |  |  |  | 355,803 | 253,942 |  |  |
Montana |  |  |  | 223,824 | 140,575 |  |  |
Nebraska |  |  |  | 250,664 | 163,832 |  |  |
Nevada |  |  |  | 255,904 | 167,713 |  |  |
New Hampshire |  |  |  | 233,410 | 149,042 |  |  |
New Jersey |  |  |  | 423,010 | 314,418 |  |  |
New Mexico |  |  |  | 262,833 | 174,414 |  |  |
New York |  |  |  | 748,801 | 595,330 |  |  |
North Carolina |  |  |  | 423,520 | 310,992 |  |  |
North Dakota |  |  |  | 219,041 | 136,474 |  |  |
Ohio |  |  |  | 522,298 | 398,591 |  |  |
Oklahoma |  |  |  | 307,176 | 213,685 |  |  |
Oregon |  |  |  | 301,101 | 207,084 |  |  |
Pennsylvania |  |  |  | 522,568 | 401,520 |  |  |
Rhode Island |  |  |  | 227,361 | 143,826 |  |  |
South Carolina |  |  |  | 316,041 | 220,783 |  |  |
South Dakota |  |  |  | 222,534 | 139,590 |  |  |
Tennessee |  |  |  | 359,337 | 255,436 |  |  |
Texas |  |  |  | 896,367 | 714,091 |  |  |
Utah |  |  |  | 282,274 | 189,654 |  |  |
Vermont |  |  |  | 216,439 | 134,520 |  |  |
Virginia |  |  |  | 389,523 | 284,536 |  |  |
Washington |  |  |  | 361,309 | 259,608 |  |  |
West Virginia |  |  |  | 250,142 | 163,554 |  |  |
Wisconsin |  |  |  | 348,438 | 248,360 |  |  |
Wyoming |  |  |  | 214,698 | 132,919 |  |  |
D.C |  |  |  | 214,178 | 132,336 |  |  |
Puerto Rico |  |  |  | 361,591 | 256,775 |  |  |
American Samoa |  |  |  | 100,000 | 80,000 |  |  |
Guam |  |  |  | 100,000 | 80,000 |  |  |
Northern Marianas |  |  |  | 100,000 | 80,000 |  |  |
Virgin Islands |  |  |  | 100,000 | 80,000 |  |  |
Federated States of Micronesia |  |  |  |  | 80,000 |  |  |
Republic of Palau |  |  |  |  | 80,000 |  |  |
Republic of the Marshall Islands |  |  |  |  | 80,000 |  |  |
Consistent with EDGAR 34 CFR 75.104(b), we will reject any application that proposes a project funding level that exceeds the stated maximum award amount for basic grants.
** Applicants must limit the Application Narrative, Part III of the Application, to the page limits noted above. Please refer to the “Page Limit” requirements included under the priority description and the page limit standards described in the “General Requirements” section. See also the “Supplemental Information” section. We will reject and will not consider an application that does not adhere to this requirement.
¹ Basic Grants: B Only—20; B&C—30.
Basic Grants of Enhancement: B Only—25; B&C—35.

Electronic Access to This Document

You may view this document, as well as all other Department of Education documents published in the Federal Register, in text or portable document format (PDF) on the internet at the following site:

www.ed.gov/legislation/FedRegister

To use PDF you must have Adobe Acrobat Reader, which is available free at the previous site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1485.

Dated: May 15, 2001.
Francis V. Corrigan,
Deputy Director, National Institute on Disability and Rehabilitation Research.

[FR Doc. 01-12517 Filed 5-17-01; 8:45 am]

BILLING CODE 4000-01-P